DEPARTMENT OF STATE

[Public Notice: 9970]

Notice of Charter Renewal for the President's Emergency Plan for AIDS Relief (PEPFAR) Scientific Advisory Board

The official designation of this advisory committee is The President's Emergency Plan for AIDS Relief (PEPFAR) Scientific Advisory Board, hereinafter referred to as “the Board.”

The Committee is established under the general authority of the Secretary of State and the Department of State (“the Department”) as set forth in Title 22 of the United States Code, in particular Section 2656 of that Title, and consistent with the Federal Advisory Committee Act, as amended (5 U.S.C. Appendix). The approval of this Charter by the Under Secretary for Management constitutes a determination by the Secretary of State that this Committee Charter is in the public interest in connection with the performance of duties of the Department.

The previous Charter for the Board was established on March 6, 2015. In accordance with Public Law 92-463, Section 14, it has been formally determined to be in the public interest to continue the Charter for another two years.

The Charter renewal was approved on April 5, 2017.

For further information about the Board, please contact Dr. Ebony Coleman, Designated Federal Officer for the Board, Office of the U.S. Global AIDS Coordinator and Health Diplomacy at ColemanEM@state.gov.

Ebony Coleman,
Designated Federal Officer, Office of the U.S. Global AIDS Coordinator and Health Diplomacy, Department of State.

[FR Doc. 2017-08360 Filed 4-24-17; 8:45 am]

BILLING CODE 4710-10-P